DEPARTMENT OF ENERGY

Federal Energy Regulatory Commission

[Docket No. ER01-173-000]

Arizona Public Service Company; Notice of Filing

October 25, 2000.

Take notice that on October 20, 2000, Arizona Public Service Company (APS) tendered for filing a revision to its Open Access Transmission Tariff (OATT) in order to include the Protocols Manual of the Arizona Independent Scheduling Administrator Association (AISAA) under Part IV of its OATT.

APS requests an effective date of November 1, 2000.

A copy of this filing has been served on the Arizona Corporation Commission, AISAA, Salt River Project Merchant Group and Pinnacle West Marketing & Trading. Copies of the filing can be viewed on APS' OASIS website, www.azpsoasis.com.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or November 8, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Beginning November 1, 2000, comments and protests may be filed electronically via the internet in lieu of paper. See, 18 CFR 385.2001(a)(1)(iii) and the instructions on the Commission's web site at http://www.ferc.fed.us/efi/doorbell.htm.

David P. Boergers,
Secretary.

[FR Doc. 00-27776 Filed 10-27-00; 8:45 am]

BILLING CODE 6717-01-M